DEPARTMENT OF TRANSPORTATION

Office of the Assistant Secretary for Research and Technology; Advisory Council on Transportation Statistics; Notice of Meeting

AGENCY: Bureau of Transportation Statistics, U.S. Department of Transportation.

ACTION: Notice.

This notice announces, pursuant to section 10(a)(2) of the Federal Advisory Committee Act (FACA) (Pub. L. 72-363; 5 U.S.C. app. 2), a meeting of the Advisory Council on Transportation Statistics (ACTS). The meeting will be held on Tuesday, May 19th from 8:30 a.m. to 4:00 p.m. E.S.T. at the U.S. Department of Transportation, Room E37-302, 1200 New Jersey Ave. SE., Washington, DC. Section 52011 of the Moving Ahead for Progress in the 21st Century Act (MAP-21) directs the U.S. Department of Transportation to establish an Advisory Council on Transportation Statistics subject to the Federal Advisory Committee Act (5 U.S.C., App. 2) to advise the Bureau of Transportation Statistics (BTS) on the quality, reliability, consistency, objectivity, and relevance of transportation statistics and analyses collected, supported, or disseminated by the Bureau and the Department. The following is a summary of the draft meeting agenda: (1) USDOT Welcome and Introduction of Council Members; (2) Current BTS Activities and Issues; (3) BTS Portions of the GROW AMERICA Act; (4) BTS Research Activities; (5) Public Comments and Closing Remarks. Participation is open to the public.

Members of the public who wish to participate must notify Annette Simpson at annette.simpson.@dot.gov, not later than May 1, 2015. Members of the public may present oral statements at the meeting with the approval of Patricia Hu, Director of the Bureau of Transportation Statistics. Noncommittee members wishing to present oral statements or obtain information should contact Annette Simpson via email no later than May 1, 2015.

Questions about the agenda or written comments may be emailed (Annette.Simpson@dot.gov) or submitted by U.S. Mail to: U.S. Department of Transportation, Office of the Assistant Secretary for Research and Technology, Bureau of Transportation Statistics, Attention: Annette Simpson, 1200 New Jersey Avenue SE., Room # E34-403, Washington, DC 20590, or faxed to (202) 366-3383. BTS requests that written comments be received by May 1, 2015. Access to the DOT Headquarters building is controlled therefore all persons who plan to attend the meeting must notify Annette Simpson at 202-366-0419 prior to May 1, 2015. Individuals attending the meeting must report to the main DOT entrance on New Jersey Avenue SE. for admission to the building. Attendance is open to the public, but limited space is available. Persons with a disability requiring special services, such as an interpreter for the hearing impaired, should contact Annette Simpson at 202-366-0419 at least seven calendar days prior to the meeting.

Notice of this meeting is provided in accordance with the FACA and the General Services Administration regulations (41 CFR part 102-3) covering management of Federal advisory committees.

Issued in Washington, DC, on the 15th day of April 2015.
Rolf Schmitt,
Deputy Director, Bureau of Transportation Statistics.

[FR Doc. 2015-09097 Filed 4-20-15; 8:45 am]

BILLING CODE 4910-9X-P